DEPARTMENT OF HEALTH AND HUMAN SERVICES

Health Resources and Services Administration

Advisory Commission on Childhood Vaccines; Notice of Meeting

In accordance with section 10(a)(2) of the Federal Advisory Committee Act (Pub. L. 92-463), notice is hereby given of the following meeting:

Name: Advisory Commission on Childhood Vaccines (ACCV).

Date and Time: June 14, 2004, 10 a.m.-5 p.m., EDT.

Place: Audio Conference Call and Parklawn Building, Conference Rooms G & H, 5600 Fishers Lane, Rockville, MD 20857.

The full ACCV will meet on Monday, June 14, from 10 a.m. to 5 p.m. The public can join the meeting in person at the address listed above or by audio conference call by dialing 1-888-790-6041 on June 14 and providing the following information:

Leader's Name: Joyce Somsak.

Password: ACCV.

Agenda: The agenda items for June 14 will include, but are not limited to: a presentation on the Institute of Medicine's Immunization Safety Review Committee Report, “Vaccines and Autism''; an overview of the Centers for Disease Control and Prevention's and the National Institutes of Health's research on thimerosal; an overview of the Vaccine Adverse Event Reporting System (VAERS) reports for influenza vaccine; a presentation on adding the influenza vaccine to the Vaccine Injury Table; and updates from the Division of Vaccine Injury Compensation, the Department of Justice, and the National Vaccine Program Office. Agenda items are subject to change as priorities dictate.

Public Comments: Persons interested in providing an oral presentation should submit a written request, along with a copy of their presentation to: Ms. Cheryl Lee, Principal Staff Liaison, Division of Vaccine Injury Compensation, Special Programs Bureau, Health Resources and Services Administration, Room 16C-17, 5600 Fishers Lane, Rockville, MD 20857 or by e-mail at clee@hrsa.gov. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of his/her assigned presentation time. Persons who do not file an advance request for a presentation, but desire to make an oral statement, may announce it at the time of the comment period. These persons will be allocated time as time permits.

For Further Information Contact: Anyone requiring information regarding the ACCV should contact Ms. Cheryl Lee, Principal Staff Liaison, Division of Vaccine Injury Compensation, Special Programs Bureau, Health Resources and Services Administration, Room 16C-17, 5600 Fishers Lane, Rockville, Maryland 20857, telephone: (301) 443-2124 or e-mail: clee@hrsa.gov.

Dated: May 21, 2004.
Tina M. Cheatham,
Director, Division of Policy Review and Coordination.

[FR Doc. 04-12082 Filed 5-27-04; 8:45 am]

BILLING CODE 4165-15-P